DEPARTMENT OF DEFENSE

Office of the Secretary

[Docket ID DoD-2015-OS-0128]

Proposed Collection; Comment Request

AGENCY: Office of the Assistant Secretary of Defense for Acquisition, Technology and Logistics, DoD.

ACTION: Notice.

SUMMARY: In compliance with the Paperwork Reduction Act of 1995, the Office of the Assistant Secretary of Defense for Acquisition Technology and Logistics announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 19, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the STEM Program Office, Mark Center, 4800 Mark Center Drive, Room 17C08, Alexandria, Virginia 22350-3600, ATTN: Karen Saunders or call STEM Program Office, at 571 2372 6542.

SUPPLEMENTARY INFORMATION: Title; Associated Form; and OMB Number: SMART Program Documents, OMB Control Number 0704-0446.

Needs and Uses: The information collection requirement is a statutory and functional necessary to administer the SMART scholarship program. The SMART Program requires a competitive application process. All awardees must be U.S. citizens at the time of application, 18 years or older as of 1 August 2015, able to participate in summer internships at DoD laboratories, willing to accept post-graduation employment with the DoD, be a current college student in good standing with a minimum GPA of 3.0 on a 4.0 scale (as calculated by the SMART application), pursuing an undergraduate or graduate degree in one of the 19 program funded disciplines, and eligible to obtain and maintain a secret level security clearance.

Affected Public: Individuals or households.

Annual Burden Hours: 420,000.

Number of Respondents: 2,800.

Responses per Respondent: 6.

Annual Responses: 16,800.

Average Burden per Response: 25 hours.

Frequency: On occasion.

Respondents are college students or current Department of Defense (DoD) employees who provide academic information to the SMART Program Office. The application is an on line form requesting academic merit, and compatibility with DoD workforce needs. The information collected consists of applications submitted by members of the general public and current DoD personnel who actively choose to become involved in SMART and thus become subject to information collection. The applications include information on academic records, community and volunteer activities, letters of recommendations from faculty and community leaders, a list of publications, work experience, certification of citizenship and personal contact information. All this information is necessary to evaluate and rank each candidate's credentials for awarding scholarships and determining whether the candidate meets specific DoD facility workforce needs. Having qualified candidates provide academic and work force compatibility with the mission of the DoD is essential in maintaining a STEM work for DoD Laboratories.

Dated: November 10, 2015.
Aaron Siegel,
Alternate OSD Federal Register Liaison Officer, Department of Defense.

[FR Doc. 2015-29197 Filed 11-16-15; 8:45 am]

BILLING CODE 5001-06-P